DEPARTMENT OF TRANSPORTATION

National Highway Traffic Safety Administration

Reports, Forms and Record Keeping Requirements; Agency Information Collection Activity Under OMB Review

AGENCY: National Highway Traffic Safety Administration, DOT

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period was published on July 20, 2009 (74 FR 35227).

DATES: Comments must be submitted on or before July 26, 2010.

FOR FURTHER INFORMATION CONTACT: Coleman Sachs, National Highway Traffic Safety Administration, Office of Vehicle Safety Compliance (NVS-223), 1200 New Jersey Avenue, SE., Room W43-481, Washington, DC 20590.

SUPPLEMENTARY INFORMATION:

National Highway Traffic Safety Administration

Title: 49 CFR part 566, Manufacturers' Identification.

OMB Number: 2127-0043.

Type of Request: Reinstatement of an information collection for which OMB approval has expired.

Affected Public: Business or other for-profit organizations.

Abstract: If a motor vehicle or item of replacement motor vehicle equipment contains a defect related to motor vehicle safety or fails to comply with an applicable Federal motor vehicle safety standard, the manufacturer is required under 49 U.S.C. 30118 to furnish notification of the defect or noncompliance to the Secretary of Transportation, as well as to owners, purchasers, and dealers of the motor vehicle or replacement equipment, and to remedy the defect or noncompliance without charge to the owner. To ensure that manufacturers are meeting these and other responsibilities under the statutes and regulations administered by NHTSA, the agency issued 49 CFR part 566, Manufacturer Identification. The regulations in part 566 require manufacturers of motor vehicles or motor vehicle equipment, other than tires, to which a Federal motor vehicle safety standard (FMVSS) applies, to submit to NHTSA, on a one-time basis, identifying information on themselves and on the products that they manufacture to those standards. The information must be submitted no later than 30 days after the manufacturer begins to manufacture motor vehicles or motor vehicle equipment subject to the FMVSS. No specific form need be used for the submission of this information. Manufacturers who have previously submitted identifying information must ensure that the information on file is accurate and complete by submitting revised information no later than 30 days after a change in the business that affects the validity of that information has occurred.

Estimated Burden Hours: 33.

Number of Respondents: 200.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued on: June 17, 2010.
Claude Harris,
Director, Office of Vehicle Safety Compliance.

[FR Doc. 2010-15292 Filed 6-23-10; 8:45 am]

BILLING CODE 4910-59-P